DEPARTMENT OF THE INTERIOR

Bureau of Land Management

[LLCON03000 L12320000.AL0000]

Notice of Correction to Notice of Intent To Collect Fees on Public Land in Mesa County, CO Under the Federal Lands Recreation Enhancement Act

AGENCY: Bureau of Land Management, Interior.

ACTION: Notice of correction.

SUMMARY: On January 26, 2012, the BLM published a Notice of Intent to Collect Fees on Public Land in Mesa County, Colorado [77 FR 4058]. The BLM inadvertently published that the fee would be a Special Recreation Permit fee under 16 U.S.C. 6802(h). This Notice of Correction is intended to change the type fee being submitted to an Expanded Amenity Fee under 16 U.S.C. 6802(g)(2)(A).

FOR FURTHER INFORMATION CONTACT: Michelle Bailey, Assistant Field Office Manager, at email: m1bailey@blm.gov, fax (970) 244-3083, or by mail: Michelle Bailey, Assistant Field Manager, BLM, Grand Junction Field Office, 2815 H. Road, Grand Junction, Colorado 81506.

Steven Hall,
Acting State Director.

[FR Doc. 2012-3119 Filed 2-9-12; 8:45 am]

BILLING CODE 4310-JB-P